DEPARTMENT OF THE INTERIOR

Fish and Wildlife Service

[FWS-R2-ES-2011-N0011; FXES11130200000F5-123-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. The Act and the National Environmental Policy Act also require that we invite public comment before issuing these permits.

DATES: To ensure consideration, written comments must be received on or before March 12, 2012.

ADDRESSES: Marty Tuegel, Section 10 Coordinator, by U.S. mail at Division of Endangered Species, U.S. Fish and Wildlife Service, P.O. Box 1306, Room 6034, Albuquerque, NM at (505) 248-6920. Please refer to the respective permit number for each application when submitting comments.

FOR FURTHER INFORMATION CONTACT: Susan Jacobsen, Chief, Endangered Species Division, P.O. Box 1306, Albuquerque, NM 87103; (505) 248-6920.

SUPPLEMENTARY INFORMATION:

Public Availability of Comments

The Act (16 U.S.C. 1531 et seq.) prohibits activities with endangered and threatened species unless a Federal permit allows such activities. Along with our implementing regulations in the Code of Federal Regulations (CFR) at 50 CFR part 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-202343

Applicant: Daniel Ginter, Albuquerque, New Mexico.

Applicant requests an amendment to a current permit for research and recovery purposes to conduct presence/absence surveys for southwestern willow flycatcher (Empidonax traillii extimus) within New Mexico.

Permit TE-59580A

Applicant: Rocky Mountain Ecology, Santa Fe, New Mexico.

Applicant requests a new permit for research and recovery purposes to conduct presence/absence surveys for southwestern willow flycatcher (Empidonax traillii extimus) and Rio Grande silvery minnow (Hybognathus amarus) within New Mexico.

Permit TE-59587A

Applicant: Donald Connell, Driftwood, Texas.

Applicant requests a new permit for research and recovery purposes to conduct presence/absence surveys for golden-cheeked warbler (Dendroica chrysoparia) and black-capped vireo (Vireo atricapilla) within Texas.

Permit TE-60494A

Applicant: Wildlife World Zoo, Litchfield Park, Arizona.

Applicant requests an amendment to a current permit for husbandry and holding of Kemp's ridley sea turtle (Lepidochelys kempii) at the zoo in Arizona.

Permit TE-083956

Applicant: Sandy Wolf, Tucson, Arizona.

Applicant requests an amendment to a current permit for research and recovery purposes to conduct presence/absence surveys of Mexican long-nosed bat (Leptonycteris nivalis) within Arizona.

Permit TE-181762

Applicant: Sea Turtle, Inc., South Padre Island, Texas.

Applicant requests a renewal to a current permit for research and recovery purposes to conduct presence/absence surveys, stranding activities, holding, blood collection, and rehabilitation for Kemp's ridley (Lepidochelys kempii), hawksbill (Eretmochelys imbricata), and leatherback (Dermochelys coriacea) sea turtles within Texas.

Permit TE-083956

Applicant: Krista McDermid, Manchaca, Texas.

Applicant requests a renewal to a current permit for research and recovery purposes to conduct presence/absence surveys of the following species within Texas:

• Bee Creek Cave harvestman (Texella reddelli)

• Bone Cave harvestman (Texella reyesi)

• Braken Bat Cave meshweaver (Cicurina venii)

• Coffin Cave mold beetle (Batrisodes texanus)

• Cokendolpher Cave harvestman (Texella cokendolpheri)

• Comal Springs dryopid beetle (Stygoparnus comalensis)

• Comal Springs riffle beetle (Heterelmis comalensis)

• Government Canyon Bat Cave meshweaver (Cicurina vespera)

• Government Canyon Bat Cave spider (Neoleptoneta microps)

• Ground beetle (Rhadine exilis)

• Ground beetle (Rhadine infernalis)

• Helotes mold beetle (Batrisodes venyivi)

• Kretschmarr Cave mold beetle (Texamaurops reddelli)

• Madla Cave meshweaver (Cicurina madla)

• Peck's Cave amphipod (Stygobromus pecki)

• Robber Baron Cave meshweaver (Cicurina baronia)

• Tooth Cave ground beetle (Rhadine persephone)

• Tooth Cave pseudoscorpion (Tartarocreagris texana)

• Tooth Cave spider (Neoleptoneta (=Leptoneta) myopica)

Permit TE-030115

Applicant: Bureau of Land Management, Safford, Arizona.

Applicant requests a renewal to a current permit for research and recovery purposes to conduct presence/absence surveys of the following species within Arizona:

• Desert pupfish (Cyprinodon macularius)

• Gila chub (Gila intermedia)

• Gila topminnow (Poeciliopsis occidentalis)

• Lesser long-nosed bat (Leptonycteris curasoae yerbabuenae)

• Peebles Navajo cactus (Pediocactus peeblesianus var. peeblesianus)

• Southwestern willow flycatcher (Empidonax traillii extimus)

Permit TE-043941

Applicant: James Collins, Tempe, Arizona.

Applicant requests a renewal to a current permit for research and recovery purposes to conduct presence/absence surveys of Sonora tiger salamander (Ambystoma tigrinum stebbinsi) within Arizona.

Permit TE-63462A

Applicant: Michael Speegle, Buffalo Gap, Texas.

Applicant requests a new permit for research and recovery purposes to conduct presence/absence surveys of golden-cheeked warbler (Dendroica chrysoparia), interior least tern (Sterna antillarum athalassos) and black-capped vireo (Vireo atricapilla) within Texas.

Permit TE-022190

Applicant: Arizona Sonora Desert Museum, Tucson, Arizona.

Applicant requests a renewal to a current permit for husbandry and holding of the following species within Arizona:

• Bonytail chub (Gila elegans)

• Colorado pikeminnow (Ptychocheilus lucius)

• Desert pupfish (Cyprinodon macularius)

• Gila chub (Gila intermedia)

• Gila topminnow (Poeciliopsis occidentalis)

• Loach minnow (Tiaroga cobitis)

• Lesser long-nosed bats (Leptonycteris curasoae yerbabuenae)

• Masked bobwhite quail (Colinus virginianus ridgwayi)

• Mexican gray wolf (Canis lupus baileyi)

• Mount Graham red squirrel (Tamiasciurus hudsonicus grahamensis)

• Ocelot (Leopardus pardalis)

• Pima pineapple cactus (Coryphantha scheeri var. robustispina)

• Quitobaquito pupfish (Cyprinodon eremus)

• Razorback sucker (Xyrauchen texanus)

• Southwestern willow flycatcher (Empidonax traillii extimus)

• Thick-billed parrot (Rhynchopsitta pachyrhyncha)

• Woundfin (Plagopterus argentissimus)

• Yaqui chub (Gila purpurea)

• Yaqui topminnow (Poeciliopsis occidentalis sonorensis)

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: January 27, 2012.
Benjamin Tuggle,
Regional Director, Southwest Region.

[FR Doc. 2012-2690 Filed 2-9-12; 8:45 am]

BILLING CODE 4310-55-P